DEPARTMENT OF TRANSPORTATION

Maritime Administration

[Docket No. MARAD-2019-0011]

Deepwater Port License Application: SPOT Terminal Services LLC

AGENCY: Maritime Administration, U.S. Department of Transportation.

ACTION: Notice of availability; Notice of public meeting and request for comments.

SUMMARY: The Maritime Administration (MARAD) and the U.S. Coast Guard (USCG) announce the availability of the Supplemental Draft Environmental Impact Statement (SDEIS) for the SPOT Terminal Services LLC (SPOT) Deepwater port license application for the export of oil from the United States to nations abroad. A SDEIS was prepared to ensure meaningful engagement of identified Limited English Proficient (LEP) persons in the environmental impact review process. To provide the most current information developed through the environmental review process, the SDEIS responds to comments received on the Draft Environmental Impact Statement (DEIS). Additionally, MARAD and USCG announce a virtual public meeting for the SDEIS.

DATES: MARAD and USCG will hold one virtual public meeting in connection with the SPOT SDEIS. The virtual public meeting will be held remotely due to the nationwide impacts of the existing public health emergency under Section 319 of the Public Health Service Act in response to Coronavirus Disease 2019 (COVID-19). Further, the President's declaration of a national emergency due to the COVID-19 outbreak, and state and local actions in response to COVID-19, have impacted the public's ability to assemble and provide feedback on the SPOT deepwater port license application through in-person public meetings. The public meeting will be held virtually, on November 16, 2021, from 6:00 p.m. to 8:00 p.m. Central Standard Time (CST). The public meeting may end later than the stated time, depending on the number of persons who wish to make a comment on the record. Anyone that is interested in attending the virtual public meeting or speaking during the virtual public meeting must register. Registration information is provided in the Virtual Public Meeting and Registration sections of this Notice. Additionally, materials submitted in response to this request for comments on the SDEIS must be submitted to the www.regulations.gov website or the Federal Docket Management Facility as detailed in the ADDRESSES section below no later than 45 days after the Environmental Protection Agency (EPA) publishes its notice of availability of the SDEIS for the SPOT Deepwater Port License Application in the Federal Register.

ADDRESSES: The SPOT Deepwater Port License Application, comments, supporting information and the SDEIS are available for viewing at the Regulations.gov website: http://www.regulations.gov under docket number MARAD-2019-0011. The Final EIS (FEIS), when published, will be announced and be available at the Regulations.gov website.

The public docket for the SPOT Deepwater Port License Application is maintained by the U.S. Department of Transportation, Docket Management Facility, West Building, Ground Floor, Room W12-140, 1200 New Jersey Avenue SE, Washington, DC 20590. Comments on the SDEIS may be submitted to this address and must include the docket number for this project, which is MARAD-2019-0011. The Federal Docket Management Facility's telephone number is 202-366-9317 or 202-366-9826, the fax number is 202-493-2251.

We encourage you to submit comments electronically through the Federal eRulemaking Portal at http://www.regulations.gov. If you submit your comments electronically, it is not necessary to also submit a hard copy by mail. If you cannot submit material using http://www.regulations.gov, please contact either Mr. Matthew Layman, USCG, or Dr. Efrain Lopez, MARAD, as listed in the following FOR FURTHER INFORMATION CONTACT section of this document. This section provides alternate instructions for submitting written comments. Additionally, if you go to the online docket and sign up for email alerts, you will be notified when comments are posted.

FOR FURTHER INFORMATION CONTACT: Mr. Matthew Layman, U.S. Coast Guard, telephone: 202-372-1421, email: Matthew.D.Layman@uscg.mil, or Dr. Efrain Lopez, Maritime Administration, telephone: 202-366-9761, email: frain.Lopez@dot.gov. For questions regarding viewing the Docket, call Docket Operations, telephone: 202-366-9317 or 202-366-9826.

SUPPLEMENTARY INFORMATION: A Notice of Application that summarized the SPOT Deepwater Port License Application was published in the Federal Register on March 4, 2019 (84 FR 7413). A Notice of Intent to Prepare an Environmental Impact Statement (EIS) and Notice of Public Meetings was published in the Federal Register on March 7, 2019 (84 FR 8401). This Notice of Availability incorporates the aforementioned Federal Register Notices by reference. The application describes a project that would be located approximately 27.2 to 30.8 nautical miles off the coast of Brazoria County, Texas.

Publication of this notice begins a 45-day comment period, requests public participation in the environmental impact review process, provides information on how to participate in the environmental impact review process, and announces a virtual public meeting.

Virtual Public Meeting

The public meeting will be held virtually, on November 16, 2021, from 6:00 p.m. to 8:00 p.m. Central Standard Time (CST). The virtual platform of choice is Zoom. We encourage you to visit the informational virtual open house website (www.SPOTNEPAProcess.com) and to attend the virtual public meeting to learn about, and comment on, the proposed SPOT deepwater port. You will have the opportunity to verbally submit comments during the virtual public meeting on the scope and significance of the issues related to the proposed deepwater port that should be addressed in the SDEIS.

Registration

Speaker and attendee registration are available online at www.SPOTNEPAProcess.com. Speakers at the virtual public meeting will be recognized in the following order: elected officials, public agencies, individuals, or groups in the sign-up order and then anyone else who wishes to speak. In order to allow everyone a chance to speak at a virtual public meeting, we may limit speaker time, extend the meeting hours, or both. You must identify yourself and any organization you represent by name. Speakers' transcribed remarks will be included in the public docket. You may also submit written material for inclusion in the public docket. Written material must include the author's name. We ask attendees to respect the meeting procedures in order to ensure a constructive information-gathering session. The presiding officer will use his/her discretion to conduct the meeting in an orderly manner.

Public meetings are intended to be accessible to all participants. Individuals who require special assistance such as sign language interpretation, non-English language translation services or other reasonable accommodations, please notify the USCG or MARAD (see FOR FURTHER INFORMATION CONTACT) at least 7 business days in advance of the virtual public meeting. Include your contact information as well as information about your specific needs.

Request for Comments

We request public comment on this SDEIS. All comments will be accepted. The virtual public meeting is not the only opportunity you have to comment on the SPOT deepwater port license application. In addition to, or in place of, attending a virtual meeting, you may submit comments directly to the Federal Docket Management Facility during the public comment period (see DATES). We will consider all comments and material received during the 45-day public comment period.

Public comment submissions should include:

• Docket number MARAD-2019-0011.

• Your name and address.

Submit comments or material using only one of the following methods:

• Electronically (preferred for processing) to the Federal Docket Management System (FDMS) website: http://www.regulations.gov under docket number MARAD-2019-0011.

• By mail to the Federal Docket Management Facility (MARAD-2019-0011), U.S. Department of Transportation, West Building, Ground Floor, Room W12-140, 1200 New Jersey Avenue SE, Washington, DC 20590-0001.

• By fax to the Federal Docket Management Facility at 202-493-2251. Faxed, mailed or hand delivered submissions must be unbound, no larger than 8½ by 11 inches and suitable for copying and electronic scanning. The format of electronic submissions should also be no larger than 8½ by 11 inches. If you mail your submission and want to know when it reaches the Federal Docket Management Facility, please include a stamped, self-addressed postcard or envelope.

Regardless of the method used for submitting comments, all submissions will be posted, without change, to the Federal Docket Management Facility website (http://www.regulations.gov) and will include any personal information you provide. Therefore, submitting this information to the docket makes it public. You may wish to read the Privacy and Use Notice that is available on the Federal Docket Management Facility website and the Department of Transportation Privacy Act Notice that appeared in the Federal Register on April 11, 2000 (65 FR 19477), see Privacy Act. You may view docket submissions at the Federal Docket Management Facility or electronically on the Federal Docket Management Facility website.

Background

On January 31, 2019, MARAD and USCG received a license application from SPOT for all Federal authorizations required for a license to construct, own, and operate a deepwater port for the export of oil. The proposed deepwater port would be located in Federal waters approximately 27.2 to 30.8 nautical miles off the coast of Brazoria County, Texas. Texas was designated as the Adjacent Coastal State for the SPOT license application.

The Federal agencies involved held a public scoping meeting in connection with the evaluation of the SPOT license application. The public scoping meeting was held in Lake Jackson, Texas on March 20, 2019. The transcript of the scoping meeting is included on the public docket located at https://www.regulations.gov/document/MARAD-2019-0011-0019. The Federal agencies also held a Draft EIS public comment meeting to receive comments on the Draft EIS. The public comment meeting was held in Lake Jackson, Texas on February 26, 2020. Publication of that notice began a 45-day public comment period, which began on February 7, 2020 and ended on March 23, 2020. A second 30-day public comment period due to COVID began on May 1, 2021 and ended on May 31, 2021. The transcripts of the DEIS public comment meetings are also included on the public docket at https://www.regulations.gov/document/MARAD-2019-0011-0019-1192.

The purpose of the SDEIS is to provide language translation for Limited English Proficiency (LEP) persons in the Project vicinity. This action serves as required public engagement with Environmental Justice (EJ) communities and LEP persons. The SDEIS is currently available for public review at the Federal docket website: www.regulations.gov under docket number MARAD-2019-0011.

Summary of the License Application

SPOT is proposing to construct, own, and operate a deepwater port terminal in the Gulf of Mexico to export domestically produced crude oil. Use of the deepwater port would include the loading of various grades of crude oil at flow rates of up to 85,000 barrels per hour (bph). The SPOT deepwater port would allow for up to two (2) Very Large Crude Carriers (VLCCs) or other crude oil carriers to moor at single point mooring (SPM) buoys and connect with the deepwater port via floating connecting crude oil hoses and a floating vapor recovery hose. The maximum frequency of loading VLCCs or other crude oil carriers would be 2 million barrels per day, 365 days per year.

The proposed SPOT Deepwater Port (DWP) would be located in Federal waters of the Gulf of Mexico, in Galveston Area Outer Continental Shelf lease blocks 463 and A-59, approximately 27.2 to 30.8 nautical miles off the coast of Brazoria County, Texas, in water depths of approximately 115 feet. Onshore components of the proposed Project would be located in both Brazoria and Harris counties.

The overall project would consist of both onshore and offshore components. The onshore components would consist of:

• Modifications to the existing Enterprise Crude Houston (ECHO) Terminal, including four electric motor-driven mainline crude oil pumps, four electric motor-driven booster crude oil pumps, and one measurement skid to support delivery of crude oil to the proposed Oyster Creek Terminal;

• One 50.1-mile, 36-inch-diameter ECHO to Oyster Creek Pipeline;

• One pipeline interconnection from the existing Rancho II 36-inch-diameter pipeline to the ECHO to Oyster Creek Pipeline (Rancho II Junction);

• A new Oyster Creek Terminal on approximately 140 acres of land, including six electric motor-driven mainline crude oil pumps with the capacity to push crude oil to the offshore pipelines at a rate of up to 85,000 bph, four electric motor-driven booster crude oil pumps, seven aboveground storage tanks (each with a capacity of 685,000 barrels [600,000 barrels of working storage]) for a total onshore storage capacity of approximately 4.8 million barrels (4.2 million barrels working storage) of crude oil, metering equipment, two permanent and one portable vapor combustion units, and a firewater system;

• Two collocated 12.2-mile, 36-inch-diameter Oyster Creek to Shore Pipelines; and

• Ancillary facilities for the onshore pipelines, including ten mainline valves, of which six would be along the ECHO to Oyster Creek Pipeline and four along the Oyster Creek to Shore Pipelines, pig launchers for the ECHO to Oyster Creek Pipeline, and pig launchers and receivers for the Oyster Creek to Shore Pipelines.

The offshore and marine components would consist of:

• Two collocated, bi-directional, 46.9-mile, 36-inch-diameter crude oil offshore pipelines for crude oil delivery from the Oyster Creek Terminal to the platform;

• One fixed offshore platform with eight piles, four decks, and three vapor combustion units;

• Two SPM buoys to concurrently moor two VLCCs or other crude oil carriers with capacities between 120,000 and 320,000 deadweight tonnage for loading up to 365 days per year, including floating crude oil and vapor recovery hoses;

• Four pipeline end manifolds (PLEMs)—two per SPM buoy—to provide the interconnection between the SPOT DWP and the SPM buoys;

• Four 0.66-nautical mile, 30-inch-diameter pipelines (two per PLEM) to deliver crude oil from the platform to the PLEMs;

• Four 0.66-nautical mile, 16-inch diameter vapor recovery pipelines (two per PLEM) to connect the VLCC or other crude oil carrier to the three vapor combustion units on the platform.

• Three service vessel moorings, located in the southwest corner of Galveston Area lease block 463; and

• An anchorage area in Galveston Area lease block A-59, which would not contain any infrastructure.

The purpose of this notice is to announce the availability of the SDEIS that was prepared to ensure meaningful engagement of identified LEP persons in the environmental impact review process. Additionally, MARAD and USCG announce a virtual public meeting for the SDEIS.

Privacy Act

Regardless of the method used for submitting comments or materials, all submissions will be posted, without change, to the http://www.regulations.gov website and will include any personal information you provide. Therefore, submitting this information to the docket makes it public. You may wish to read the Privacy and Security Notice and the User Notice that are available at https://www.federalregister.gov/documents/2005/03/24/05-5823/establishment-of-a-new-system-of-records-notice-for-the-federal-docket-management-system. The Privacy Act notice regarding the Federal Docket Management System is available in the March 24, 2005 issue of the Federal Register (70 FR 15086).

(Authority: 33 U.S.C. 1501 et seq., 49 CFR 1.93(h)).

By Order of the Acting Maritime Administrator.
T. Mitchell Hudson, Jr.
Secretary, Maritime Administration.

[FR Doc. 2021-23016 Filed 10-28-21; 8:45 am]

BILLING CODE 4910-81-P